DEPARTMENT OF HEALTH AND HUMAN SERVICES

Office of the Secretary

Office of the National Coordinator for Health Information Technology; Delegation of Authority

Notice is hereby given that I have delegated to the National Coordinator for Health Information Technology (National Coordinator), Office of the National Coordinator for Health Information Technology (ONC), or his or her successor, the authority vested in the Secretary of Health and Human Services: (a) To administer the provisions of subtitle A of title XXX of the Public Health Service Act (42 U.S.C. 300jj-11 et seq.), as amended, as specified under section 3001 (with the exception of section 3001(a)) and section 3009A; (b) to administer the provisions of subtitle C of title XXX of the Public Health Service Act (42 U.S.C. 300jj-52), as amended, as specified under section 3022 (with the exception of section 3022(b) and (d)(4)); (c) to administer the provisions of title II, subtitle E, section 2401(b)(5) of the American Rescue Plan Act of 2021 (Pub. L. 117-2), for the purpose of carrying out COVID-19 activities related to enhancing information technology, data modernization, and reporting, including improvements necessary to support sharing of data related to public health capabilities; and (d) to administer the provisions of title II, subtitle F, section 2501 of the American Rescue Plan Act of 2021 (Pub. L. 117-2), for the purpose of carrying out COVID-19 activities related to establishing, expanding, and sustaining a public health workforce by making awards of funds.

Limitations

This delegation of authority may be re-delegated.

The Secretary retains the authority to submit reports to Congress, promulgate regulations, and to establish advisory committees and councils and appoint their members, as applicable.

Previous delegations made to officials within the Department of Health and Human Services for authority under title II, subtitle E, section 2401(b)(5), and title II, subtitle F, section 2501 of the American Rescue Plan Act of 2021 (Pub. L. 117-2) continue in effect.

Exercise of this authority shall be in accordance with established policies, procedures, guidelines, and regulations as prescribed by the Secretary.

I hereby affirm and ratify any actions taken by the National Coordinator, or his or her subordinates, which involved the exercise of the authority delegated herein prior to the effective date of this delegation.

Effective Date

This delegation is valid upon date of signature.

Authority

5 U.S.C. 301; section 6 of the Reorganization Plan No. 1 of 1953; and section 2 of the Reorganization Plan No. 3 of 1966.

Dated: September 23, 2021.
Xavier Becerra,
Secretary of Health and Human Services.

[FR Doc. 2021-21140 Filed 9-24-21; 4:15 pm]

BILLING CODE P